Title 3—

The President

Memorandum of July 2, 2002

Delegation of Authority Under Section 124 of the National Defense Authorization Act for Fiscal Year 2001

Memorandum for the Secretary of Defense

By the authority vested in me by the Constitution and laws of the United States of America, you are delegated the authority and assigned the responsibility of the President under section 124(b) of the Floyd D. Spence National Defense Authorization Act for Fiscal Year 2001 (Public Law 106-398).

The authority delegated by this memorandum may be redelegated, in writing, not lower than the Under Secretary of Defense level.

You are authorized and directed to publish this memorandum in the Federal Register.

B

THE WHITE HOUSE,

Washington, July 2, 2002.

[FR Doc. 02-17938

Filed 7-12-02; 8:45 am]

Billing code 5001-08-M